FEDERAL COMMUNICATIONS COMMISSION

47 CFR Part 73

[DA 02-1877; MM Docket No. 98-155; RM-9082, RM-9133]

Radio Broadcasting Services; Alva, Mooreland, Tishomingo, and Woodward, OK

AGENCY: Federal Communications Commission.

ACTION: Final rule, application for review.

SUMMARY: At the request of Ralph Tyler this document reallots Channel 259C3 from Tishomingo to Tuttle, Oklahoma, and modifies the Station KTSH license to specify Tuttle as the community of license. See 65 FR 82296, published December 28, 2000. In order to accommodate this reallotment, this document substitutes Channel 260C1 for Channel 259C1 at Alva, Oklahoma, and modifies the Station KXLS license to specify operation on Channel 260C1 at Alva. This document also substitutes Channel 292C1 for Channel 261C1 at Woodward, Oklahoma, and modifies the Station KWFX license to specify operation on Channel 292C1 at Woodward. The reference coordinates for the Channel 259C3 allotment at Tuttle, Oklahoma, are 35-17-33 and 97-42-58. The reference coordinates for the Channel 292C1 allotment at Woodward, Oklahoma, are 36-25-42 and 99-24-10. The reference coordinates for the Channel 260C1 allotment at Alva, Oklahoma, are 36-35-41 and 98-15-38. In view of the grant of the reallotment of Channel 259C3 to Tuttle, the Application for Review filed by Ralph Tyler directed against an earlier action denying this reallotment is dismissed. With this action, the proceeding is terminated.

DATES: Effective September 17, 2002.

FOR FURTHER INFORMATION CONTACT: Robert Hayne, Mass Media Bureau, (202) 418-2177.

SUPPLEMENTARY INFORMATION: This is a synopsis of the Commission's Memorandum Opinion and Order in MM Docket No. 98-155 adopted July 31, 2002, and released August 2, 2002. The full text of this decision is available for inspection and copying during normal business hours in the FCC's Reference Information Center at Portals II, CY-257, 445 12th Street, SW, Washington, DC. The complete text of this decision may also be purchased from the Commission's copy contractor, Qualex International, Portals II, 445 12th Street, SW, Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Oklahoma, is amended by removing Channel 259C1 and adding Channel 260C1 at Alva; by removing Tishomingo, Channel 259C3, and adding Tuttle, Channel 259C3; and by removing Channel 261C1 and adding Channel 292C1 at Woodward.

Federal Communications Commission.
John A. Karousos,
Assistant Chief, Audio Division, Media Bureau.

[FR Doc. 02-20587 Filed 8-13-02; 8:45 am]

BILLING CODE 6712-01-P